Title 3—

The President

Proclamation 10158 of March 22, 2021

National Agriculture Day, 2021

By the President of the United States of America

A Proclamation

On National Agriculture Day, we recognize the unique and irreplaceable value that farmers, ranchers, foresters, farmworkers, and other agricultural stewards have contributed to our Nation's past and present. America's agriculture sector safeguards our Nation's lands through sustainable management; ensures the health and safety of animals, plants, and people; provides a safe and abundant food supply; and facilitates opportunities for prosperity and economic development in rural America.

Over the last year, workers and other leaders across the agriculture sector have stepped up to ensure a stable food supply in the face of incredible challenges prompted by the COVID-19 pandemic. Farmworkers, who have always been vital to our food system, continued to grow, harvest, and package food, often at great personal risk. Local farmers helped to meet their communities' needs by selling food directly to consumers. Small meat processors increased their capacity as demand for their services skyrocketed. Restaurants found creative ways to bring food to members of their communities. Grocers and grocery workers also navigated new models, such as curbside pickup and online sales.

These collective efforts helped get food to the millions of adults and children in America experiencing nutrition insecurity. Programs such as the Supplemental Nutrition Assistance Program; the Special Supplemental Nutrition Program for Women, Infants, and Children; school meals; and others focused on eliminating nutrition insecurity play an integral role in making sure that every family has enough food on the table.

As we overcome the pandemic and build back better, we will advance an agriculture sector that works for everyone. When I took office, I made a commitment alongside Vice President Kamala Harris to put racial equity at the forefront of our Administration's priorities. For generations, Black, Indigenous, and other farmers of color have contributed to sustaining this Nation. They fed their communities, gave the country new food products, and nourished communities with rich food traditions. Yet for generations they have faced the harmful effects of systemic racism. On this National Agriculture Day, I remain determined to address racial inequity and create an equitable space for all to participate in the great American enterprise of agriculture.

I also made a commitment to tackle the climate crisis. Farmers, ranchers, and foresters play a critical role in combating climate change. From sequestering carbon in the soil to producing renewable energy on farms, we will continue to innovate and create new revenue streams for farmers and ranchers while building a resilient agriculture sector.

NOW, THEREFORE, I, JOSEPH R. BIDEN JR., President of the United States of America, by virtue of the authority vested in me by the Constitution and the laws of the United States, do hereby proclaim March 23, 2021, as National Agriculture Day. I call upon all Americans to join me in recognizing and reaffirming our commitment to and appreciation for our country's farmers, ranchers, foresters, farmworkers, and those who work in the agriculture sector across the Nation.

IN WITNESS WHEREOF, I have hereunto set my hand this twenty-second day of March, in the year of our Lord two thousand twenty-one, and of the Independence of the United States of America the two hundred and forty-fifth.

[FR Doc. 2021-06293

Filed 3-24-21; 8:45 am]

Billing code 3295-F1-P